DEPARTMENT OF THE INTERIOR

National Park Service

Construction of New Utah Museum of Natural History, Final Environmental Impact Statement, Salt Lake County, UT

AGENCY: National Park Service, Department of the Interior.

ACTION: Notice of Availability of a Record of Decision on the Final Environmental Impact Statement for the Construction and Operation of a Proposed New Utah Museum of Natural History at the University of Utah.

SUMMARY: Pursuant to § 102(2)(C) of the National Environmental Policy Act of 1969, 83 Stat. 852, 853, codified as amended at 42 U.S.C. 4332(2)(C), the National Park Service and the University of Utah announce the availability of the Record of Decision for the Construction and Operation of a Proposed New Utah Museum of Natural History at the University of Utah, Salt Lake County, Utah. On March 26, 2007, the Director, Intermountain Region approved the Record of Decision for the project. As soon as practicable, the University of Utah will begin to implement the Preferred Alternative contained in the FEIS issued on February 23, 2007. The following course of action will occur under the preferred alternative: the new museum building will be built uphill from the pipeline corridor/Bonneville Shoreline Trail that pass through the new site. Parking will be provided in a joint Red Butte Garden and Arboretum/Utah Museum of Natural History facility, or if a joint facility is not viable, downhill from the pipeline corridor. Flexibility is afforded for site design and placement of facilities. A portion of the development area extends into Red Butte Garden and Arboretum property. This course of action and five alternatives were analyzed in the Draft and Final Environmental Impact Statements. The full range of foreseeable environmental consequences was assessed, and appropriate mitigating measures were identified.

The Record of Decision includes a statement of the decision made, synopses of other alternatives considered, the basis for the decision, a description of the environmentally preferable alternative, a listing of measures to minimize environmental harm, and an overview of public involvement in the decision-making process.

FOR FURTHER INFORMATION CONTACT: Ralph E. Becker, The Shipley Group and Bear West, 1584 South 500 West, Suite 201, Woods Cross, Utah 84010; phone 801-355-8816; e-mail to rbecker@bearwest.com.

SUPPLEMENTARY INFORMATION: Copies of the Record of Decision may be obtained from the contact listed above or online at http://www.umnh.utah.edu.

Dated: March 26, 2007.
Anthony J. Schetzsle,
Deputy Director, Intermountain Region, National Park Service.

[FR Doc. E7-7742 Filed 4-23-07; 8:45 am]

BILLING CODE 4312-52-P